DEPARTMENT OF AGRICULTURE

Animal and Plant Health Inspection Service

[Docket No. APHIS-2008-0065]

Notice of Decision To Issue Permits for the Importation of Dragon Fruit From Vietnam Into the Continental United States

AGENCY: Animal and Plant Health Inspection Service, USDA.

ACTION: Notice.

SUMMARY: We are advising the public of our decision to begin issuing permits for the importation into the continental United States of dragon fruit from Vietnam. Based on the findings of a pest risk analysis, which we made available to the public for review and comment through a previous notice, we believe that the application of one or more designated phytosanitary measures will be sufficient to mitigate the risks of introducing or disseminating plant pests or noxious weeds via the importation of dragon fruit from Vietnam.

DATES: Effective Date: July 30, 2008.

FOR FURTHER INFORMATION CONTACT: Mr. Alex Belano, Import Specialist, Commodity Import Analysis and Operation Staff, PPQ, APHIS, 4700 River Road Unit 133, Riverdale, MD 20737-1231; (301) 734-5333.

SUPPLEMENTARY INFORMATION:

Background

Under the regulations in “Subpart-Fruits and Vegetables” (7 CFR 319.56 through 319.56-47, referred to below as the regulations), the Animal and Plant Health Inspection Service (APHIS) of the U.S. Department of Agriculture prohibits or restricts the importation of fruits and vegetables into the United States from certain parts of the world to prevent plant pests from being introduced into and spread within the United States.

Section 319.56-4 of the regulations contains a performance-based process for approving the importation of commodities that, based on the findings of a pest risk analysis, can be safely imported subject to one or more of the designated phytosanitary measures listed in paragraph (b) of that section. Under that process, APHIS publishes a notice in the Federal Register announcing the availability of the pest risk analysis that evaluates the risks associated with the importation of a particular fruit or vegetable. Following the close of the 60-day comment period, APHIS may begin issuing permits for importation of the fruit or vegetable subject to the identified designated measures if: (1) No comments were received on the pest risk analysis; (2) the comments on the pest risk analysis revealed that no changes to the pest risk analysis were necessary; or (3) changes to the pest risk analysis were made in response to public comments, but the changes did not affect the overall conclusions of the analysis and the Administrator's determination of risk.

In accordance with that process, we published a notice ¹ in the Federal Register on May 9, 2008 (73 FR 26360-26361, Docket No. APHIS-2008-0065), in which we announced the availability, for review and comment, of a pest risk analysis that evaluates the risks associated with the importation into the continental United States of dragon fruit from Vietnam. We solicited comments on the notice for 60 days ending on July 8, 2008. We received one comment by that date, from a private citizen. The commenter did not provide any information regarding the pest risk analysis. No changes to the pest risk analysis are necessary based on that comment.

¹ To view the notice, the pest risk analysis, and the comment we received, go to http://www.regulations.gov/fdmspublic/component/main?main=DocketDetail&d=APHIS-2008-0065.

Therefore, in accordance with the regulations in § 319.56-4(c)(2)(ii), we are announcing our decision to begin issuing permits for the importation into the continental United States of dragon fruit from Vietnam subject to the following phytosanitary measures:

• The dragon fruit must be irradiated with a minimum absorbed dose of 400 gray.

• Each consignment of dragon fruit must be accompanied by a phytosanitary certificate issued by the national plant protection organization (NPPO) of Vietnam. The phytosanitary certificate must document that the dragon fruit has been inspected by the NPPO of Vietnam and that the consignment received the required irradiation treatment or that the consignment will receive the required treatment upon arrival in the continental United States, should an APHIS-approved facility exist.

• The dragon fruit may be imported to the United States in commercial consignments only.

These conditions will be listed in the fruits and vegetables manual (available at http://www.aphis.usda.gov/import_export/plants/manuals/ports/downloads/fv.pdf). In addition to those specific measures, dragon fruit from Vietnam will be subject to the general requirements listed in § 319.56-3 that are applicable to the importation of all fruits and vegetables.

Authority: 7 U.S.C. 450, 7701-7772, and 7781-7786; 21 U.S.C. 136 and 136a; 7 CFR 2.22, 2.80, and 371.3.

Done in Washington, DC, this 24th day of July 2008.
Kevin Shea,
Acting Administrator, Animal and Plant Health Inspection Service.

[FR Doc. E8-17476 Filed 7-29-08; 8:45 am]

BILLING CODE 3410-34-P